ENVIRONMENTAL PROTECTION AGENCY

[EPA-HQ-OPP-2005-0253; FRL-8068-4]

Propylene Oxide; Notice of Receipt of Request to Terminate Gum Uses on Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by ABERCO, Inc. to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on June 23, 2006, unless the Agency receives a written withdrawal request on or before June 23, 2006. The Agency will consider withdrawal request postmarked no later than June 23, 2006.

Users of these products who desire continued use on crops or sites being deleted should contact ABERCO, Inc. on or before June 23, 2006.

ADDRESSES: Submit your comments, identified by docket identification (ID) number EPA-HQ-OPP-2005-0253, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building); 2777 S. Crystal Drive, Arlington, VA. Deliveries are only accepted during the Docket's normal hours of operation (8:30 a.m. to 4 p.m., Monday through Friday, excluding legal holidays). Special arrangements should be made for deliveries of boxed information. The docket telephone number is (703) 305-5805.

Instructions: Direct your comments to docket (ID) number EPA-HQ-OPP-2005-0253. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Building), 2777 S. Crystal Drive, Arlington, VA. The hours of operation for this docket facility are from 8:30 a.m. to 4 p.m., Monday through Friday, excluding legal holidays. The docket telephone number is (703) 305-5805.

FOR FURTHER INFORMATION CONTACT: Susan Bartow, Special Review and Reregistration Division (7508P), Office of Pesticide Programs, Environmental Protection Agency, 1200 Pennsylvania Ave., NW., Washington, DC 20460-0001; telephone number: (703) 603-0065; fax number: (703) 308-8041; e-mail address: bartow.susan@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under Docket identification number (ID) [EPA-HQ-OPP-2005-0253; FRL-8068-4]. Publicly available docket materials are available either electronically at http://www.regulations.gov.

2. Electronic access. You may access this Federal Register document electronically through the EPA Internet under the “Federal Register” listings at http://www.epa.gov/fedrgstr/.

II. What Action is the Agency Taking?

This notice announces receipt by EPA of a request from registrant ABERCO, Inc. to voluntarily terminate edible gum (including but not limited to guar) and nonfood gum uses of 47870-1, 47870-2, and 47870-3 PPO product registrations. PPO is an insecticidal fumigant used on several food items such as processed spices, cocoa (beans and powder), and in-shell and processed nutmeats (except peanuts). PPO also has nonfood uses for bird seeds, cosmetic articles, gums, ores, packaging, pigments, pharmaceutical materials, and discarded nut shells prior to disposal. In a letter dated April 20, 2006, ABERCO, Inc. requested EPA to terminate PPO's use on all gums for pesticide product registrations identified in this notice (Table 1). Specifically, ABERCO, Inc. requests that all references to any gum use be deleted from the following, “For non food use as an insecticidal fumigant for the control of stored product insects in bird seed, cosmetic articles and ingredients, gums, ores, packaging, pigments, pharmaceutical materials, and discarded nut shells prior to disposal.” In addition, ABERCO, Inc. requests that the following use be terminated and that any reference to it be deleted, “For non food use as an insecticidal fumigant for the control of stored product insects in gums.”

ABERCO, Inc. requests provisions for sale, distribution, and use of existing stocks, as EPA defined that term at 56 Fed. Reg. 29362, as follows: (1) Registrants may sell and distribute existing stocks for one year from the date of this letter making the use termination request, and (2) The product may be sold, distributed, and used by people other than the registrant until their stocks have been exhausted, provided that such sale, distribution, and use complies with the EPA-approved label and labeling of the product. There will be no more PPO pesticide products registered in the United States for gum use.

Table 1.—Registrations With Requests for Amendments to Delete Uses in Certain Pesticide Registrations
EPA Registration No. | Product name | Active ingredient | Delete from label
47870-1 | Propylene Oxide | Propylene Oxide | edible gums (including but not limited to guar) and nonfood gums
47870-2 | Propylene Oxide Technical | Propylene Oxide | edible gums (including but not limited to guar) and nonfood gums
47870-3 | Propoxide 892 | Propylene Oxide | edible gums (including but not limited to guar) and nonfood gums

Users of these products who desire continued use on crops or sites being deleted should contact ABERCO, Inc. (9430 Lanham Severn Road, Seabrook, MD 20706-2651) before June 23, 2006 to discuss withdrawal of the application for amendment. This 30 day period will also permit interested members of the public to intercede with registrants prior to the Agency's approval of the deletion.

III. What is the Agency's Authority for Taking this Action?

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The PPO registrant has requested that EPA waive the 180-day comment period. EPA will provide a 30-day comment period on the proposed requests.

Unless a request is withdrawn by the registrant within 30-days of publication of this notice, or if the Agency determines that there are substantive comments that warrant further review of this request, an order will be issued amending the affected registrations.

IV. Procedures for Withdrawal of Request

Registrants who choose to withdraw a request for use deletion must submit the withdrawal in writing to Susan Bartow using the methods in ADDRESSES. The Agency will consider written withdrawal requests postmarked no later than June 23, 2006.

V. Provisions for Disposition of Existing Stocks

Existing stocks are those stocks of registered pesticide products which are currently in the United States and which were packaged, labeled, and released for shipment prior to the effective date of the cancellation action.

In any order issued in response to this request for amendment(s) to terminate gum uses, the Agency proposes to include the following provisions for the treatment of any existing stocks of the products identified or referenced in Table 1: (1) The registrant may sell and distribute existing stocks for one year from the date of this letter making the use termination request, and (2) The product may be sold, distributed, and used by people other than the registrant until their stocks have been exhausted, provided that such sale, distribution, and use complies with the EPA-approved label and labeling of the product.

If the request for voluntary cancellation and use termination is granted as discussed above, the Agency intends to issue a cancellation order that will allow persons other than the registrant to continue to sell and/or use existing stocks of cancelled products until such stocks are exhausted, provided that such use is consistent with the terms of the previously approved labeling on, or that accompanied, the cancelled product. The order will specifically prohibit any use of existing stocks that is not consistent with such previously approved labeling. If, as the Agency currently intends, the final cancellation order contains the existing stocks provision just described, the order will be sent only to the affected registrants of the cancelled products. If the Agency determines that the final cancellation order should contain existing stocks provisions different than the ones just described, the Agency will publish the cancellation order in the Federal Register.

List of Subjects

Environmental protection, Pesticides and pests.

Dated: May 15, 2006.
Debra Edwards,
Director, Special Review and Reregistration Division, Office of Pesticide Programs.

[FR Doc. E6-7832 Filed 5-23-06; 8:45 am]

BILLING CODE 6560-50-S